DEPARTMENT OF EDUCATION

Common Instructions for Applicants to Department of Education Discretionary Grant Programs

AGENCY: Office for Planning, Evaluation and Policy Development, Department of Education.

ACTION: Notice; revised common instructions.

SUMMARY: On December 27, 2021, the Department of Education (Department) published a revised set of common instructions for applicants seeking funds under a Department discretionary grant competition as part of a broader effort to reduce barriers for applicants. These common instructions are referenced in individual competition notices inviting applications (NIAs). In this notice, the Department is publishing a revised version of the common instructions that supersedes the version published on December 27, 2021.

FOR FURTHER INFORMATION CONTACT: Ronald B. Petracca, U.S. Department of Education, 400 Maryland Avenue SW, Room 6E306, Washington, DC 20202. Telephone: (202) 401-6008. Email: Ronald.Petracca@ed.gov.

If you are deaf, hard of hearing, or have a speech disability and wish to access telecommunications relay services, please dial 7-1-1.

SUPPLEMENTARY INFORMATION:

Background: This document provides applicants with a centralized and up-to-date set of instructions for applying to the Department's discretionary grant programs. Future NIAs will reference this document in lieu of providing this series of instructions within each NIA. Rarely, exceptions will need to be made to these instructions and will be noted in an individual competition NIA.

Revised Common Instructions:

The Department is making several changes to the revised common instructions for applicants provided in the notice published in the Federal Register on December 27, 2021 (86 FR 73264). Throughout section 4, the Department has removed reference to the Data Universal Numbering System number (DUNS) given the full implementation of the Unique Entity Identifier (UEI). The Department has also made some technical updates to the instructions.

The revised common instructions are set forth as follows:

Common Set of Instructions for Applicants:

Application and Submission Information

1. Address to Request Application Package: You can obtain an application package from the Department's website or Grants.gov.

To obtain a copy via the Department's website, use the following address: www.ed.gov/fund/grant/apply/grantapps/index.html.

2. Content and Form of Application Submission: Requirements concerning the content and form of an application, together with the forms you must submit, are in the application package for the program.

3. Submission Dates and Times: Submit applications for grants under the program electronically using Grants.gov. For information (including dates and times) about how to submit your application electronically, please refer to Other Submission Requirements in section 5 of these instructions.

The Department does not consider an application that does not comply with the deadline requirements.

4. Unique Entity Identifier, Taxpayer Identification Number, and System for Award Management: To do business with the Department, and to submit your application electronically using Grants.gov, you must—

a. Have a Unique Entity Identifier (UEI) and a Taxpayer Identification Number (TIN);

b. Be registered in the System for Award Management (SAM.gov), the Government's primary registrant database;

c. Provide your UEI number and TIN on your application; and

d. Maintain an active SAM registration with current information while your application is under review by the Department and, if you are awarded a grant, during the project period.

If you are a corporate entity, agency, institution, or organization, you can obtain a TIN from the Internal Revenue Service (IRS). If you are an individual, you can obtain a TIN from the IRS or the Social Security Administration. If you need a new TIN, please allow two to five weeks for your TIN to become active.

The SAM registration process usually takes approximately 7 to 10 business days, but may take longer, depending on the completeness and accuracy of the data you enter into the SAM.gov database. The Department recommends that you register early, at least 10 to 14 business days before the application deadline. If you are unable to submit an application on Grants.gov by the application deadline because you do not have an active SAM registration, you will not be considered for funding.

Note: Once your SAM.gov registration is active, it may be 24 to 48 hours before you can access the information in, and submit an application through, Grants.gov.

If you are currently registered with SAM.gov, you may not need to make any changes. However, please make certain that the TIN associated with your UEI is correct.

Note: You must update your SAM registration annually. This may take three or more business days.

Information about SAM is available at www.SAM.gov. To further assist you with registering in SAM.gov or updating your existing SAM registration, see the Quick Start Guide for Grant Registrations and the Entity Registration Video at https://sam.gov/content/entity-registration.

In addition, in order to submit your application via Grants.gov, you must (1) register as an applicant using your UEI number and (2) be designated by your organization's E-Biz Point of Contact as an Authorized Organization Representative (AOR). Details on these steps are outlined at the following Grants.gov web page: https://www.grants.gov/web/grants/register.html.

5. Other Submission Requirements:

a. Electronic Submission of Applications.

The Department is participating as a partner in the Government-wide Grants.gov site. Submit applications electronically using Grants.gov and do not email them unless explicitly allowed in a competition NIA.

You may access the electronic grant applications at www.grants.gov. You may search for the downloadable application package for this competition by the Assistance Listing Number (ALN). Do not include the ALN's alpha suffix in your search (e.g., search for 84.184, not 84.184D).

A Grants.gov applicant must apply online using Workspace, a shared environment in Grants.gov where members of a grant team may simultaneously access and edit different web forms within an application. An applicant can create an individual Workspace for each application and establish, for that application, a collaborative application package that allows more than one person in the applicant's organization to work concurrently on an application. The Grants.gov system also enables the applicant to reuse forms from previous submissions, check forms in and out to complete them, and submit the application package. For access to further instructions on how to apply using Grants.gov, refer to: www.grants.gov/web/grants/applicants/apply-for-grants.html.

Please note the following:

• Applicants needing assistance with Grants.gov may contact the Grants.gov Support Center either by calling 1-800-518-4726 or by sending an email to support@grants.gov. The Grants.gov Support Center is available 24 hours a day, seven days a week, except for Federal holidays. Applicants needing assistance from Principal Office staff with their applications should contact the person listed in the FOR FURTHER INFORMATION CONTACT section in the competition NIA prior to the application deadline date during normal business hours and no later than 5:00 p.m., Eastern Time, on the application deadline date.

• The amount of time it can take to upload an application will vary depending on a variety of factors, including the size of the application and the speed of your internet connection. Therefore, the Department recommends that you leave yourself plenty of time to complete your submission.

• Applications received by Grants.gov are date- and time-stamped upon submission. Your application must be fully uploaded and submitted, received, and date- and time-stamped by the Grants.gov system no later than 11:59:59 p.m., Eastern Time, on the application deadline date. Except as otherwise noted in this section, the Department will not accept your application if it is submitted, received, and date- and time-stamped by the Grants.gov system—after 11:59:59 p.m., Eastern Time, on the application deadline date. The Department will not consider an application that does not comply with the deadline requirements. When the Department retrieves your application from Grants.gov, the Department will notify you if the Department is rejecting your application because it was late. Receipt of a date- and time-stamp from Grants.gov does not mean that your application meets program eligibility requirements described in the NIA.

• You should review and follow the Education Submission Procedures for submitting an application through Grants.gov that are included in the application package for the program to ensure that you submit your application on time. You can also find the Education Submission Procedures pertaining to Grants.gov under News and Events on the Department's G5 system home page at www.G5.gov. In addition, for specific guidance and procedures for submitting an application through Grants.gov, please refer to the Grants.gov website at: www.grants.gov/web/grants/applicants/apply-for-grants.html.

• When you submit your application electronically, all documents must be submitted electronically, including all information you typically provide on the following forms: the Application for Federal Assistance (SF 424), the Department of Education Supplemental Information for SF 424, Budget Information—Non-Construction Programs (ED 524), and all Department-specific assurances and certifications.

• When you submit your application electronically, you must upload any narrative sections and all other attachments to your application as files in either Portable Document Format (PDF) or Microsoft Word. Although applicants have the option of uploading any narrative sections and all other attachments to their application in either PDF or Microsoft Word, the Department recommends applicants submit all documents as read-only flattened PDFs, meaning any fillable PDF files must be saved and submitted as non-fillable PDF files and not as interactive or fillable PDF files, to better ensure applications are processed in a more timely, accurate, and efficient manner. If you choose to submit your application in Microsoft Word, you may do so using any version of Microsoft Word (i.e., a document ending in a .doc or .docx extension). If you upload a file type other than PDF or Microsoft Word or if you submit a password-protected file, the Department will be unable to review that material. Please note that this will likely result in your application not being considered for funding. The Department will not convert material from other formats to PDF or Microsoft Word.

• After you electronically submit your application, you will receive from Grants.gov an automatic notification of receipt that contains a Grants.gov tracking number. Grants.gov will also notify you automatically by email if your application met all of the Grants.gov validation requirements or if there were any errors (such as submission of your application by someone other than a registered AOR, issues with your UEI number, or inclusion of an attachment with a file name that contains special characters). You will be given an opportunity to correct any errors and resubmit, but you must still meet the deadline date and time for submission of your application.

Once your application is successfully validated by Grants.gov, the Department will retrieve your application from Grants.gov and send you an email with a unique PR/Award number for your application.

Email confirmations and receipts from Grants.gov do not indicate receipt by the Department, nor do they mean that your application is complete or has met all application requirements. While your application may have been successfully validated by Grants.gov, it also must be reviewed in accordance with the Department's application requirements as specified in the competition NIA and in these application instructions. It is your responsibility to ensure that your submitted application has met all of the Department's requirements. Additionally, the Department may request that you provide us with original signatures on forms at a later date.

Application Deadline Date Extension in Case of Technical Issues with the Grants.gov System: If you experience problems submitting your application through Grants.gov, please contact the Grants.gov Support Desk immediately, toll-free, at 1-800-518-4726. The Grants.gov Support Center will provide you with a Support Desk Case Number documenting your communication. You must retain your Support Desk Case Number for future reference as proof of your communication with the Support Center. Please subsequently contact the person listed in the FOR FURTHER INFORMATION CONTACT section in the competition NIA and provide an explanation of the technical problem you experienced with Grants.gov, along with the Grants.gov Support Desk Case Number.

If you are prevented from electronically submitting your application on the application deadline date because of technical problems within the Grants.gov system, the Department will grant you an extension until 11:59:59 p.m., Eastern Time, the following business day to enable you to transmit your application electronically, provided the Department can verify the technical issues that affected your ability to submit your application on time via your Grants.gov Support Desk Case Number.

Note: The extensions to which the Department refers in this section apply only to technical problems with the Grants.gov system. The Department will not grant you an extension if you failed to fully register in order to submit your application to Grants.gov (including with the required UEI number and TIN currently registered in SAM) before the application deadline date and time or if the technical problem you experienced is unrelated to the Grants.gov system.

b. Submission of Paper Applications.

The Department discourages paper applications, but if electronic submission is not possible (e.g., you do not have access to the internet), (1) you must provide a prior written notification that you intend to submit a paper application and (2) your paper application must be postmarked by the application deadline date.

The prior written notification may be submitted by email or by mail to the person listed in the FOR FURTHER INFORMATION CONTACT section of the competition NIA. If you submit your notification by email, it must be received by the Department no later than 14 calendar days before the application deadline date. If you mail your notification to the Department, it must be postmarked no later than 14 calendar days before the application deadline date.

If you submit a paper application, you must have, and include on your application, a UEI number and mail the original and two copies of your application, on or before the application deadline date, to the Department at the following address:

U.S. Department of Education, OFO/G5 Functional Application Team, Mail Stop 5C231, Attention: (Assistance Listing Number + Suffix Letter), 400 Maryland Avenue SW, Washington, DC 20202-4260

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, the Department does not accept either of the following as proof of mailing:

(1) A private metered postmark.

(2) A mail receipt that is not dated by the U.S. Postal Service.

Note: The U.S. Postal Service does not uniformly provide a dated postmark. Before relying on this method, you should check with your local post office.

The Department will not consider applications postmarked after the application deadline date.

Note for Mail Delivery of Paper Applications: If you mail your application to the Department—

(1) You must indicate on the envelope and in Item 11 of the SF 424 the ALN, including suffix letter, if any, of the competition under which you are submitting your application; and

(2) The G5 Functional Application Team will notify you of the Department's receipt of your grant application. If you do not receive this notification within 15 business days from the application deadline date, you should contact the person listed in the FOR FURTHER INFORMATION CONTACT section of the competition NIA.

Accommodations; Accessible Format: Individuals with disabilities who need an accommodation or auxiliary aid in connection with the application process should contact the person listed in the FOR FURTHER INFORMATION CONTACT section in the competition NIA. If the Department provides an accommodation or auxiliary aid to an individual with a disability in connection with the application process, the individual's application remains subject to all other requirements and limitations in the competition NIA.

On request to the person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at www.federalregister.gov. Specifically, through the advanced search feature at this site, you can limit your search to documents published by the Department.

Roberto J. Rodriguez,
Assistant Secretary for Planning, Evaluation and Policy Development.

[FR Doc. 2022-26554 Filed 12-6-22; 8:45 am]

BILLING CODE 4000-01-P